DEPARTMENT OF HEALTH AND HUMAN SERVICES

Health Resources and Services Administration

Noncompetitive Program Extension Supplemental Awards

AGENCY: Health Resources and Services Administration, HHS.

ACTION: Notice.

SUMMARY: The Health Resources and Services Administration (HRSA) will be issuing non-competitive supplemental funding to the Maternal Child and Health Bureau's (MCHB) Comprehensive Hemophilia Diagnostic and Treatment Centers. MCHB's Division of Children with Special Health Needs and the Genetic Services Branch are currently undergoing a strategic planning process. This will provide feasible time for the MCHB to align fiscal resources and programmatic goals as determined by this strategic planning process with the least disruption to the States, communities, and constituencies that currently receive assistance and services from these grantees.

SUPPLEMENTARY INFORMATION: Intended Recipient of the Award: Comprehensive Hemophilia Diagnostic and Treatment Centers—12 Regional Centers (see table below).

Amount of the Award: 12 awards ranging from $184,846 to $595,453.

CFDA Number: 93.110.

Project Period: The period of supplemental support is from June 1, 2011, to May 31, 2012.

Authority: This activity is under the authority of Section 501(a) (2) of the Social Security Act, the Maternal and Child Health Federal Set-Aside Program: Special Projects of Regional and National Significance (SPRANS) (42 U.S.C. 701).

Regional Comprehensive Hemophilia Diagnostic and Treatment Centers
Grantee | Grant No. | Region | FY 2010 Funding Level
University of Massachusetts | H30 MC00037-12-00 | Region 1 | $312,472
Mt. Sinai School of Medicine | H30 MC00019-20-00 | Region 2 | 595,453
Children's Hospital of Philadelphia | H30 MC09625-02-00 | Region 3 | 530,808
University of North Carolina | H30 MC05053-07-01 | Region 4-N | 329,980
Hemophilia of Georgia | H30 MC00011-20-00 | Region 4-S | 228,857
Hemophilia Foundation of Michigan | H30 MC00015-20-00 | Region 5-E | 365,256
Great Lakes Hemophilia Foundation | H30 MC00032-21-02 | Region 5-W | 446,520
University of Texas HSC at Houston | H30MC00029-20-06 | Region 6 | 455,871
Children's Mercy Hospital | H30 MC00040-10-00 | Region 7 | 371,228
University of Colorado | H30 MC00008-20-00 | Region 8 | 321,921
Children's Hospital of Orange County | H30 MC00036-12-00 | Region 9 | 714,832
Oregon Health and Science University | H30 MC00025-20-00 | Region 10 | 184,846

Justification for the Exception to Competition

Since the inception of HRSA's genetic services program, the landscape of our health care system has changed dramatically. In addition, our knowledge base for genetic medicine in general and blood disorders in particular has expanded. Unfortunately, the changes in our knowledge base and standards of care are not currently reflected in what we measure through this program nor how they are integrated into day to day activities that influence the health of individuals with hemophilia, thrombophilia and von Willebrand Disease and other congenital bleeding disorders.

To better reflect the current landscape, the MCHB is undertaking a strategic planning process this year. At the end of the process, we hope to have better defined measures that will reflect our new plan and the goals for the next 10 years. This will provide us with the basis to expand the applicant pool as well as improve the evidence base for the utility of the National Hemophilia Program.

MCHB proposes this course of action for three reasons: (1) To appropriately respond to the directions that will be outlined after the strategic planning process, (2) to provide for sufficient fiscal resource to continue programmatic activities at current levels, and (3) to maintain MCH programmatic support with the least disruption to the State, community, and MCH constituencies who are currently receiving assistance and services from these grantees and the grantees themselves. Without this approach, the programmatic changes indicated through the strategic planning process will not be outlined nor implemented for another 3 years when the next competitive process will begin. Delaying the competition into mid fiscal year 2011 ensures continuity of funding for all eligible entities, with no eligible entity being harmed by the extension.

FOR FURTHER INFORMATION CONTACT: Sara Copeland, M.D., Maternal and Child Health Bureau, Health Resources and Services Administration, Room 18A-19, Parklawn Building, 5600 Fishers Lane, Rockville, Maryland 20857, Telephone (301) 443-8860, scopeland@hrsa.gov.

Dated: April 12, 2011.
Mary K. Wakefield,
Administrator.

[FR Doc. 2011-9269 Filed 4-15-11; 8:45 am]

BILLING CODE 4165-15-P